DEPARTMENT OF TRANSPORTATION

Federal Aviation Administration

14 CFR Part 93

[Docket No.: FAA-2018-0954]

Request for Comments on Requirement for Helicopters To Use the New York North Shore Helicopter Route

AGENCY: Federal Aviation Administration (FAA), U.S. Department of Transportation (DOT).

ACTION: Request for comments.

SUMMARY: The FAA Reauthorization Act of 2018 directs the FAA to provide notice of, and an opportunity for, at least 60 days of public comment with respect to the regulations mandating that pilots operating civil helicopters under Visual Flight Rules use the New York North Shore Helicopter Route when operating along that area of Long Island, New York. The Act further states the FAA shall hold a public hearing in order to solicit feedback on the regulations from impacted communities. Such an opportunity will be provided and additional meeting information will be announced.

DATES: Written comments must be received on or before January 2, 2019.

ADDRESSES: Send comments identified by docket number FAA-2018-0954 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Facsimile: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: For questions concerning this action, contact Sheri Edgett-Baron, Airspace Policy Group, Air Traffic Organization, AJV-11, Federal Aviation Administration, 800 Independence Avenue SW, Washington, DC 20591; telephone: (202) 267-8783; email: sheri.edgett-baron@faa.gov.

SUPPLEMENTARY INFORMATION:

Background

In response to concerns from a large number of local residents regarding noise from helicopters operating over Long Island, the FAA issued the New York North Shore Helicopter Route final rule (77 FR 39911, July 6, 2012). The Rule, as set forth in subpart H of part 93 of Title 14 of the Code of Federal Regulations, requires civil helicopter pilots operating under Visual Flight Rules (VFR), whose route of flight takes them over the north shore of Long Island between the Visual Point Lloyd Harbor (VPLYD) waypoint and Orient Point (VPOLT), to use the North Shore Helicopter Route, as published in the New York Helicopter Chart (“the Chart”). The Rule was promulgated to maximize use of the route, as published per the Chart, to secure and improve upon decreased levels of noise that had been voluntarily achieved.¹ Under the Rule, pilots are permitted to deviate from the route and altitude requirements when necessary for safety, weather conditions, or transitioning to or from a destination or point of landing.

¹ The rule is based on a voluntary VFR route that was developed by the FAA working with the Eastern Region Helicopter Council. The voluntary route originally was added to the Chart on May 8, 2008.

The Rule originally had a two-year duration and was set to terminate on August 6, 2014. The FAA limited the duration of the Rule because, at the time of promulgation, the FAA did not have data on the current rate of compliance with the voluntary route nor the circumstances surrounding an operator's decision not to use the route. The FAA concluded there would be no reason to retain the Rule if the FAA determined helicopter noise along the North Shore of Long Island did not improve. Accordingly, the Agency decided that the Rule would expire in two years, if it was determined there is no meaningful improvement in the effects of helicopter noise on quality of life or that the Rule was otherwise unjustified. Specifically, the FAA stated that should there be such an improvement, the FAA may, after appropriate notice and opportunity for comment, decide to make the Rule permanent. Likewise, should the FAA determine that reasonable modification could be made to the route to better address noise concerns (and any other relevant concerns), the FAA may choose to modify the Rule after notice and comment.

On June 23, 2014, the FAA issued a two-year extension of the Rule's termination date (79 FR 35488), and on July 25, 2016 the FAA issued a four-year extension of the Rule's termination date (81 FR 48323). The Rule is scheduled to expire on August 6, 2020.

As explained in the Rule, helicopters are generally limited in the distance they can prudently operate from shore without being equipped for overwater operations because they are not able to glide for any significant distance in the event of a total loss of power.

At the time of the original rulemaking, the FAA estimated that two-thirds of commercial helicopters operating along the north shore were equipped with multiple engines. This equipage allowed for a route to be established a little farther off shore than what would be prudent in an area where single-engine helicopters are predominantly operated; however, there are still significant safety implications with pushing all helicopter traffic farther over the water. Allowing helicopters to operate within sight of the coastline provides pilots with multiple visual waypoints by which to safely navigate along the north shore. The route was designed to avoid the potential safety implications associated with helicopters flying in VFR conditions off the coastline and the interaction with other traffic at or above the route's specified altitude.

The FAA is inviting comments that may assist the agency in assessing and understanding the impacts of the Rule and any potential implications of modifying the Rule. In particular, we invite responses to the following questions:

1. Did implementation of the Rule result in more or less helicopter noise in your community compared to levels you experienced prior to implementation of the Rule?

2. How and when do helicopter operators deviate from the Rule?

3. Are there alternative or supplemental routes that you believe will reduce the noise impacts without jeopardizing the safe operation of aircraft?

4. Should the Rule be extended, modified, or allowed to expire in 2020?

Issued under authority provided by Public Law 115-254, 49 U.S.C. 106(f), 44701(a), and 44703 in Washington, DC, on October 29, 2018.
Daniel K. Elwell,
Acting Administrator.

[FR Doc. 2018-24051 Filed 11-1-18; 8:45 am]

BILLING CODE 4910-13-P